DEPARTMENT OF ENERGY

Federal Energy Regulatory Commission

[Docket Nos. EC03-85-000, et al.]

Granite II Holding, LLC, et al.; Electric Rate and Corporate Filings

May 12, 2003.

The following filings have been made with the Commission. The filings are listed in ascending order within each docket classification.

1. Granite II Holding LLC, Quixx Corporation, Quixx Resources, Inc., Energy Investors Funds Group, EIF Mustang Holding I, LLC

[Docket No. EC03-85-000]

Take notice that on May 2, 2003, Granite II Holding, LLC (Granite), Quixx Corporation (Quixx), Quixx Resources, Inc. (Quixx Resources), Energy Investors Funds Group, and EIF Mustang Holdings I, LLC (Mustang Holdings) (all collectively, Applicants) filed with the Federal Energy Regulatory Commission (the Commission) an application for authorization pursuant to Section 203 of the Federal Power Act and part 33 of the Commission's regulations (the Application). The Applicants state that the application seeks authorization for Granite, Quixx, and Quixx Resources to sell their ownership interests in Denver City Energy Associates, L.P. (DCE) to Mustang Holdings for cash. The Applicants state the DCE holds an undivided 50 percent interest in an approximately 489-MW generating facility near Denver City, Texas. The Applicants assert that jurisdictional assets included in the transaction are rate schedules, a long-term power purchase agreement, books and records, and certain facilities associated with the generation assets that are necessary to effectuate wholesale sales of electricity.

Applicants seek expedited review of the Application and request confidential treatment of certain documents submitted therewith.

Comment Date: May 23, 2003.

2. Mountain View Power Company, L.L.C.

[Docket No. EG03-67-000]

Take notice that on May 6, 2003, Mountain View Power Company, L.L.C. (Applicant), filed with the Federal Energy Regulatory Commission an application for determination of exempt wholesale generator status pursuant to part 365 of the Commission's regulations.

Applicant states that it proposes to own or operate, or both own and operate, a natural gas-fired, combined cycle electric generation station, together with ancillary facilities, with an aggregate capacity of approximately 1,052, to be located in San Bernardino County, California. Applicant further states that all output from the generating facilities will be sold exclusively at wholesale.

Comment Date: June 2, 2003.

3. Jersey Central Power & Light Company

[Docket No. ER03-650-002]

Take notice that on May 6, 2003, Jersey Central Power & Light Company (Jersey Central) tendered for filing an amendment to its March 25, 2003 filing, as amended March 27, 2003, in Docket Nos. ER03-650-000 and ER03-650-001. Jersey Central states that the amendment redesignates a proposed interconnection agreement as PJM Interconnection, L.L.C., FERC Electric Tariff, Fifth Revised Volume No. 1, Original Service Agreement No. C890. In addition, Jersey Central states that in addition, the amendment deletes material that is no longer pertinent to the agreement.

Jersey Central states that a copy of this filing has been served upon parties to the agreement and each of the parties designated on the official service list for this proceeding.

Comment Date: May 27, 2003.

4. LMP Capital, LLC, and CAM Energy Products, LP

[Docket Nos. ER03-653-001 and ER03-736-001]

Take notice that on May 7, 2003, LMP Capital, LLC (LMP Capital) filed an amendment to its application for market-based rates. LMP Capital states that the amendment supplies additional information requested in an April 29, 2003 deficiency letter by the Federal Energy Regulatory Commission including disclosure of direct ownership in LMP Capital and CAM Energy Products, LP and a request for a revision to the LMP Capital market-based rate tariff.

Comment Date: May 21, 2003.

5. Marina Energy, LLC

[Docket No. ER03-715-001]

Take notice that on May 6, 2003, Marina Energy, LLC (Marina) tendered for filing with the Federal Energy Regulatory Commission (Commission) an amendment to its application for market-based rates as a power marketer. Marina states that the amendment to the initial filing insures that the Rate Schedule complies with the pagination and designation requirements of FERC Order No. 614 (2000).

Comment Date: May 27, 2003.

6. Southern Company Services, Inc.

[Docket No. ER03-818-000]

Take notice that on May 6, 2003, Southern Company Services, Inc. (SCS), acting on behalf of Alabama Power Company, Georgia Power Company, Gulf Power Company, Mississippi Power Company, and Savannah Electric and Power Company (collectively Southern Companies), filed an Interim Agreement for Network Integration Transmission Service and Complementary Services between the Southeastern Power Administration (SEPA), and SCS, as agent for Southern Companies. SCS states that under the Interim Agreement, SEPA is allocating additional resources to certain of its customers and Southern Companies are providing additional transmission and complementary services to those customers. SCS states that the Interim Agreement is designated Rate Schedule FERC No. 400.

Comment Date: May 27, 2003

7. Virginia Electric and Power Company

[Docket No. ER03-819-000]

Take notice that on May 6, 2003, Virginia Electric and Power Company, doing business as Dominion Virginia Power (Dominion Virginia Power) tendered for filing an executed Generator Interconnection and Operating Agreement (Interconnection Agreement) between Dominion Virginia Power and Industrial Power Generating Corporation (Ingenco). Dominion Virginia Power states that the Interconnection Agreement sets forth the terms and conditions governing the interconnection between Ingenco's Shoosmith generating facility, located in Chester, Virginia, and Dominion Virginia Power's transmission system. Dominion Virginia Power requests an effective date of July 5, 2003.

Dominion Virginia Power states that copies of the filing were served upon Ingenco and the Virginia State Corporation Commission.

Comment Date: May 27, 2003.

8. The Dayton Power and Light Company

[Docket No. ER03-820-000]

Take notice that on May 5, 2003, The Dayton Power and Light Company (DP&L) submitted for filing a Network Service Agreement and a Network Operating Agreement for Network Integration Transmission Service between DP&L and Buckeye Power, Inc. (Buckeye). DP&L states that these Agreements will provide for Network Integration Transmission Service under DP&L's Open Access Transmission Tariff. In addition DP&L states that the Attachment to the Network Service Agreement establishes monthly direct assignment charges for wholesale distribution service and metering provided to Buckeye over facilities owned by DP&L. DP&L also submitted for filing a Notice of Cancellation of DP&L's FERC Electric Rate Schedule No. 33, Rate Schedules FPC Nos. 3 through 29, Supplement No. 1 to Rate Schedule No. 70 and Supplement No. 1 to Rate Schedule FPC No. 2, consisting of a Power Delivery Agreement among Buckeye, the Cincinnati Gas & Electric Company, Columbus Southern Power Company, Monongahela Power Company, Ohio Power Company, Toledo Edison Company, and DP&L.

DP&L requests an effective date of June 30, 2003 for the cancellation and an effective date of July 1, 2003 for the Agreements and Attachment for Network Integration Transmission Service.

DP&L further states that it served copies of these filings on Buckeye, the Cincinnati Gas and Electric Company, Columbus Southern Power Company, Monongahela Power Company, Ohio Power Company, the Toledo Edison Company, and the Public Utilities Commission of Ohio.

Comment Date: May 27, 2003.

9. One Nation Energy Solutions, LLC

[Docket No. ER03-821-000]

Take notice that on May 6, 2003, One Nation Energy Solutions, LLC (ONES) petitioned the Federal Energy Regulatory Commission (Commission) for acceptance of ONES Rate Schedule FERC No. 1; the granting of certain blanket approvals, including the authority to sell electricity at market-based rates; and the waiver of certain Commission regulations.

ONES states that it intends to engage in wholesale electric power and energy purchases and sales as a marketer; that it is not in the business of generating or transmitting electric power; and is not affiliated with any other company, nor do its officers/members serve as officers, significant stockholders, or members of any other company.

Comment Date: May 27, 2003.

10. PacifiCorp

[Docket No. ER03-822-000]

Take notice that on May 6, 2003, PacifiCorp tendered for filing with the Federal Energy Regulatory Commission (Commission) a Notice of Cancellation of PacifiCorp's Rate Schedule No. 544 with San Diego Gas & Electric Company (San Diego) effective December 31, 2001.

PacifiCorp states that it has served copies of this filing to San Diego and the Public Utility Commission of Oregon.

Comment Date: May 27, 2003.

11. Ameren Services Company

[Docket No. ER03-823-000]

Take notice that on May 6, 2003, Ameren Services Company (ASC) tendered for filing an executed Service Agreement for Firm Point-to-Point Transmission Services between ASC and Ameren Energy Marketing Company. ASC asserts that the purpose of the Agreement is to permit ASC to provide transmission service to Ameren Energy Marketing Company pursuant to Ameren's Open Access Transmission Tariff.

Comment Date: May 27, 2003.

12. Commonwealth Edison Company

[Docket No. ER03-824-000]

Take notice that on May 6, 2003, Commonwealth Edison Company (ComEd) tendered for filing with the Federal Energy Regulatory Commission (Commission) a Notice of Cancellation of FERC Rate Schedule No. 16, Amendment No. 7 to an Interconnection Agreement between ComEd and Wisconsin Power and Light Company (Wisconsin Power) dated February 21, 1992. ComEd requests a cancellation effective date of May 31, 2003.

Comment Date: May 27, 2003.

13. Maxim Energy Partners, LLC

[Docket No. ER03-827-000]

Take notice that on May 6, 2003, Maxim Energy Partners, LLC (Maxim Energy Partners) tendered for filing with the Federal Energy Regulatory Commission (Commission) a petition for acceptance of Maxim Energy Partners' Rate Schedule FERC No. 1; the granting of certain blanket approvals, including the authority to sell electricity at market-based rates; and the waiver of certain Commission regulations.

Maxim Energy Partners states that it intends to engage in wholesale electric power and energy purchases and sales as a marketer; that it is not in the business of generating or transmitting electric power; and that it is a Kansas limited liability company and is not affiliated with any other organization.

Comment Date: May 27, 2003.

14. California Power Exchange Corporation

[Docket No. ER03-830-000]

Take notice that on May 6, 2003, the California Power Exchange Corporation (CalPX) tendered for filing with the Federal Energy Regulatory Commission (Commission) its proposed Amendment No. 23 to the CalPX FERC Electric Service Tariff No. 2. CalPX states that it files this Tariff Amendment No. 23 to align CalPX's Tariff procedures with those proposed by the California Independent System Operator (ISO) in its April 15, 2003 filing of Amendment No. 51 to the ISO Tariff, which concerns preparatory market adjustments and reruns. CalPX states that by its Tariff Amendment No. 23, CalPX also requests that the time period for filing disputes on the ISO Settlement Statements for the preparatory adjustments/reruns be extended to 15 business days, which period shall begin on the date that CalPX provides the statements to its Participants.

CalPX states that it has served copies of the filing on its participants, on the ISO, and on the California Public Utilities Commission. CalPX requests that the amendment be made effective concurrently with the effective date of the ISO's Amendment No. 51.

Comment Date: May 27, 2003.

15. Global Common Greenport, LLC

[Docket No. ER03-833-000]

Take notice that on May 8, 2003, Global Common Greenport, LLC (GCG) petitioned the Commission for acceptance of GCG's Rate Schedule FERC No. 1; the granting of certain blanket approvals, including the authority to sell electricity at market-based rates; and the waiver of certain Commission regulations.

GCG, states that it is an exempt wholesale generator, and will sell the entire output of its 54 MW generating facility located in Greenport, New York under long-term contract to the Long Island Power Authority (LIPA). GCG also states that it is is a limited liability company formed under the laws of New York principal place of business is New York, New York. GCG asserts that in transactions where GCG sells electric power it proposes to make such sales on rates, terms, and conditions to be mutually agreed to with the purchasing party.

Comment Date: May 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-12439 Filed 5-16-03; 8:45 am]

BILLING CODE 6717-01-P